DEPARTMENT OF THE INTERIOR

National Park Service

National Register of Historic Places; Weekly Listing of Historic Properties

Pursuant to (36 CFR 60.13(b,c)) and (36 CFR 63.5), this notice, through publication of the information included herein, is to appraise the public as well as governmental agencies, associations and all other organizations and individuals interested in historic preservation, of the properties added to, or determined eligible for listing in, the National Register of Historic Places from November 17 to November 21, 2008.

For further information, please contact Edson Beall via: United States Postal Service mail, at the National Register of Historic Places, 2280, National Park Service, 1849 C St., NW., Washington, DC 20240; in person (by appointment), 1201 Eye St. NW., 8th floor, Washington, DC 20005; by fax, 202-371-2229; by phone, 202-354-2255; or by e-mail, Edson_Beall@nps.gov.

Dated: December 22, 2008.
J. Paul Loether,
Chief, National Register of Historic Places/National Historic Landmarks Program.

KEY: State, County, Property Name, Address/Boundary, City, Vicinity, Reference Number, NHL, Action, Date, Multiple Name

DISTRICT OF COLUMBIA

District of Columbia State Equivalent

Engine House No. 10, 1341 Maryland Ave., NE., Washington, DC, 08001063, LISTED, 11/19/08 (Firehouses in Washington, DC MPS)

Nathaniel Parker Gage School, 2035 2nd St., NW., Washington, DC, 08001064, LISTED, 11/19/08 (Public School Buildings of Washington, DC MPS)

HAWAII

Maui County

Ka'ahumanu Avenue—Naniloa Drive Overpass, Naniloa Dr. at Kaahumanu Ave., Wailuku, 08001065, LISTED, 11/19/08

IOWA

Jones County

Stone City Historic District, 12828-12573 Stone City Rd., 12392-12340 Dearborn Rd., 12381-12551 County Rd. X28, Anamosa vicinity, 08001099, LISTED, 11/21/08

KANSAS

Ellis County

St. Joseph's Church and Parochial School, 210 W. 13th and 217 W. 13th, Hays, 08001066, LISTED, 11/19/08

Reno County

Ranson Hotel, 4918 E. Main, Medora, 08001067, LISTED, 11/20/08

Riley County

First Congregational Church, 700 Poyntz Ave., Manhattan, 08001068, LISTED, 11/13/08

MARYLAND

Allegheny County

Folck's Mill, Address Restricted, Cumberland vicinity, 08001071, LISTED, 11/21/08

Howard County

Round About Hills, 15505 Cattail Oaks, Glenwood vicinity, 08001072, LISTED, 11/20/08

Montgomery County

Carderock Springs Historic District, Roughly bounded by I-495, Cabin John Regional Park, Seven Locks Rd., Fenway Rd. and Persimmon Tree Ln., Bethesda, 08001074, LISTED, 11/21/08 (Subdivisions by Edmund Bennett and Keyes, Lethbridge and Condon in Montgomery County, MD, 1956-1973, MPS)

MASSACHUSETTS

Hampden County

Prospect Hill School, 33 Montgomery St., Westfield, 08001069, LISTED, 11/19/08

Middlesex County

Dennison Manufacturing Co. Paper Box Factory, 175 Maple St., Marlborough, 08001070, LISTED, 11/19/08

MICHIGAN

Montcalm County

Greenville Downtown Historic District, Lafayette between Montcalm and Benton and adjacent block of Montcaolm, Grove, Cass, and Washington on either side, Greenville, 08001104, LISTED, 11/19/08

MISSOURI

Macon County

La Plata Square Historic District, Along portions of Gex, Sanders, and Moore St., La Plata, 08000696, LISTED, 11/20/08

NEW YORK

Erie County

Lancaster District School No. 6, 3703 Bowen Rd., Lancaster, 08001076, LISTED, 11/18/08

Ontario County

Dickson, John and Mary, House, 9010 Main St., West Bloomfield, 08001077, LISTED, 11/19/08

Seneca County

Ritter, Simon, Cobblestone Farmhouse, 5102 NY Rt. 89, Varick, 08001081, LISTED, 11/18/08 (Cobblestone Architecture of New York State MPS)

Warren County

FORWARD shipwreck site (motor launch), Lake George (submerged) near Diamond Island, Lake George vicinity, 08001082, LISTED, 11/21/08

TENNESSEE

Davidson County

Glen Leven, 4000 Franklin Rd., Oak Hill, 08001085, LISTED, 11/19/08 (Historic Family Farms in Middle Tennessee MPS)

Home for Aged Masons, Ben Allen Ln. and R.S. Glass Blvd., Nashville, 08001086, LISTED, 11/19/08

[FR Doc. E8-31068 Filed 12-30-08; 8:45 am]

BILLING CODE 4310-70-P